DEPARTMENT OF DEFENSE

Department of the Air Force

Record of Decision for the Department of the Air Force Fifth Generation Formal Training Unit Optimization Environmental Impact Statement

AGENCY: Department of the Air Force, Department of Defense.

ACTION: Notice of availability of record of decision.

SUMMARY: On March 24, 2021, the Department of the Air Force (DAF) signed a Record of Decision (ROD) based on the Fifth Generation Formal Training Unit (FTU) Optimization at Joint Base Langley-Eustis (JBLE-Langley) and Eglin Air Force Base (AFB) Environmental Impact Statement (EIS).

ADDRESSES: Mr. Nolan Swick, AFCEC/CZN, 2261 Hughes Avenue, Suite 155, JBSA-Lackland Air Force Base, Texas 78236-9853, (210) 925-3392; nolan.swick@us.af.mil.

SUPPLEMENTARY INFORMATION: The ROD is for two decisions involving Eglin AFB, Florida. The first decision is to permanently beddown the F-22 Formal Training Unit (FTU) mission that is temporarily operating at Eglin AFB to JBLE-Langley, Virginia, and the second decision permanently beds down one additional F-35A FTU squadron at Eglin AFB. On June 3, 2021, the DAF signed an Amended ROD to track precisely with the numbers of aircraft comprising the F-22 FTU permanent beddown as analyzed in the Final EIS. All other decisions and statements documented in the March 24, 2021, ROD remain unchanged and shall have continuing full force and effect.

The DAF decisions documented in the ROD were based on matters discussed in the Final Environmental Impact Statement, inputs from the public and regulatory agencies, and other relevant factors. The Final EIS was made available to the public on February 5, 2021 through a Notice of Availability in the Federal Register (Volume 86, Number 23, page 8356) with a waiting period that ended on March 8, 2021.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Acting Air Force Federal Register Liaison Officer.

[FR Doc. 2021-13493 Filed 6-24-21; 8:45 am]

BILLING CODE 5001-10-P